DEPARTMENT OF COMMERCE

National Oceanic and Atmospheric Administration

RIN 0648-XB155

Endangered Species; File No. 17095

AGENCY: National Marine Fisheries Service (NMFS), National Oceanic and Atmospheric Administration (NOAA), Commerce.

ACTION: Issuance of permit.

SUMMARY: Notice is hereby given that Entergy Nuclear Operations Inc., 450 Broadway, Suite 3, Buchanan, NY 10511 [Responsible Party: John Ventosa], has been issued a permit to take shortnose sturgeon (Acipenser brevirostrum) and Atlantic sturgeon (Acipenser oxyrinchus oxyrinchus) for purposes of scientific research.

ADDRESSES: The permit and related documents are available for review upon written request or by appointment in the following offices:

• Permits, Conservation and Education Division, Office of Protected Resources, NMFS, 1315 East-West Highway, Room 13705, Silver Spring, MD 20910; phone (301) 427-8401; fax (301) 713-0376; and

• Northeast Region, NMFS, 55 Great Republic Drive, Gloucester, MA 01930; phone (978) 281-9328; fax (978) 281-9394.

FOR FURTHER INFORMATION CONTACT: Malcolm Mohead or Colette Cairns, (301) 427-8401.

SUPPLEMENTARY INFORMATION: On April 11, 2012, notice was published in the Federal Register (77 FR 21750) that a request for a scientific research permit to take shortnose sturgeon and Atlantic sturgeon had been submitted by the above-named applicant. The requested permit has been issued under the authority of the Endangered Species Act of 1973, as amended (ESA; 16 U.S.C. 1531 et seq.) and the regulations governing the taking, importing, and exporting of endangered and threatened species (50 CFR parts 222-226).

The Permit Holder is issued a five-year permit to study shortnose sturgeon and Atlantic sturgeon in the Hudson River Estuary from New York Harbor (RKM 0) to Troy Dam (RKM 245). The research will monitor abundance and distribution of the sturgeon species through the Hudson River Biological Monitoring Program (HRBMP), focusing on fish identification, mark and recapture, and enumeration of sturgeon in defined Hudson River regions and at various depth strata. Researchers are authorized to non-lethally capture, handle, measure, weigh, scan for tags, insert passive integrated transponder and dart tags, photograph, tissue sample, and release up to 82 shortnose sturgeon and 82 Atlantic sturgeon annually. Additionally, researchers are permitted to lethally collect up to 40 shortnose sturgeon and up to 40 Atlantic sturgeon early life stages annually. The permit would be valid for five years from the date of issuance.

Issuance of this permit, as required by the ESA, was based on a finding that such permit (1) was applied for in good faith, (2) will not operate to the disadvantage of such endangered or threatened species, and (3) is consistent with the purposes and policies set forth in section 2 of the ESA.

Dated: September 4, 2012.
P. Michael Payne,
Chief, Permits and Conservation Division, Office of Protected Resources, National Marine Fisheries Service.

[FR Doc. 2012-22116 Filed 9-6-12; 8:45 am]

BILLING CODE 3510-22-P